DEPARTMENT OF LABOR

Employment and Training Administration

[TA-W-38,311]

LIGHTNIN—SPX Corporation, Wytheville, Virginia; Notice of Termination of Investigation

Pursuant to Section 221 of the Trade Act of 1974, an investigation was initiated on November 13, 2000, in response to a petition filed by a company official on behalf of workers at LIGHTNIN Division, SPX Corporation, Wytheville, Virginia.

The petitioner has requested that the petition be withdrawn. Consequently further investigation in this case would serve no purpose, and the investigation has been terminated.

Signed at Washington, DC this 30th day of January 2001.
Linda G. Poole,
Certifying Officer, Division of Trade Adjustment Assistance.

[FR Doc. 01-5081 Filed 3-1-01; 8:45 am]

BILLING CODE 4510-30-M